SECURITIES AND EXCHANGE COMMISSION

[File No. 500-1]

In the Matter of Dittybase Technologies, Inc.; Order of Suspension of Trading

February 25, 2015.

It appears to the Securities and Exchange Commission that there is a lack of current and accurate information concerning the securities of Dittybase Technologies, Inc. because it has not filed any periodic reports since the period ended December 31, 2008.

The Commission is of the opinion that the public interest and the protection of investors require a suspension of trading in the securities of the above-listed company. Therefore, it is ordered, pursuant to Section 12(k) of the Securities Exchange Act of 1934, that trading in the securities of the above-listed company is suspended for the period from 9:30 a.m. EST on February 25, 2015, through 11:59 p.m. EDT on March 10, 2015.

By the Commission.
Jill M. Peterson,
Assistant Secretary.

[FR Doc. 2015-04225 Filed 2-25-15; 4:15 pm]

BILLING CODE 8011-01-P